DEPARTMENT OF TRANSPORTATION

Federal Aviation Administration

14 CFR Chapters I and III

[Docket No. FAA-2004-17168]

Review of Existing Regulations

AGENCY: Federal Aviation Administration, (FAA), DOT.

ACTION: Request for comments.

SUMMARY: The FAA requests comments from the public to identify those regulations currently in effect that we should amend, remove, or simplify. We are publishing this notice under our ongoing regulatory review program required by Executive Order 12866. Getting public comments is a necessary element of our effort to make our regulations more effective and less burdensome.

DATES: Send comments to reach us by May 25, 2004.

ADDRESSES: You may send comments identified by Docket Number FAA-2004-17168 using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001. Note: Due to suspension of mail delivery to DOT headquarters facilities, we encourage commenters to file comments electronically.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Patrick W. Boyd, Office of Rulemaking, Federal Aviation Administration, 800 Independence Ave., SW., Washington, DC 20591; telephone (202) 267-7320, facsimile (202) 267-5075.

SUPPLEMENTARY INFORMATION:

Background

Congress has authorized the Secretary of Transportation, and by delegation, the Administrator of the Federal Aviation Administration (FAA) to do the following, among other things:

• Develop and maintain a sound regulatory system that is responsive to the needs of the public,

• Regulate air commerce in a way that best promotes safety and fulfills national defense requirements, and

• Oversee, license, and regulate commercial launch and reentry activities and the operation of launch and reentry sites as carried out by U.S. citizens or within the United States. Anyone interested in further information about FAA's authority and responsibilities should refer to Title 49 of the United States Code, particularly Subtitle VII, Aviation Programs.

For many years, the FAA has maintained an active regulatory review program:

• In 1992, the President announced a regulatory review to “weed out unnecessary and burdensome government regulations, which impose needless costs on consumers and substantially impede economic growth.” In response to a request for public comments published in the Federal Register (57 FR 4744), the FAA received more than 300 comments.

• In August 1993, the National Commission to Ensure a Strong Competitive Airline Industry recommended the FAA undertake a short-range regulatory review to remove or amend existing regulations to reduce regulatory burdens consistent with safety and security considerations.

• In September 1993, section 5 of Executive Order 12866 (58 FR 5173) required each agency to submit a program to the Office of Management and Budget by December 31, 1993, under which the agency will periodically review its existing significant regulations to determine whether any should be changed or removed.

• In January 1994, the FAA published a request for public comments in response to the Commission recommendation and to facilitate the review envisioned by E.O. 12866 (59 FR 1362). We received more than 400 comments from 184 commenters.

• In August 1995, the FAA published its proposed plan for periodic regulatory reviews for comment (60 FR 44142).

• In October 1996, the FAA adopted its current plan for periodic regulatory reviews based on a three-year cycle (61 FR 53610).

• In February 1997, the White House Commission on Aviation Safety and Security recommended the FAA simplify its regulations.

• In May 1997, the FAA published its first request for comments under the three-year review program and in accord with the Commission recommendation (62 FR 26894). We received 82 comments and published results of the review in October 1998 (63 FR 56540).

• In July 2000, the FAA began the second round of regulatory review under the three-year program (65 FR 43265). We received 476 comments and published results of the review in January 2002 (67 FR 4680).

In summary, since 1992 the FAA has completed four rounds of regulatory review and has received more than 1,250 comments. Currently, we have begun a comprehensive regulatory review of 14 CFR parts 125 and 135 to respond to industry dynamics, new technologies, new aircraft types and configurations, and current operating issues and environment (68 FR 5488).

Request for Comments

As part of its ongoing plan for periodic regulatory reviews, the FAA is requesting the public identify three regulations, in priority order, that it believes we should amend or eliminate. To avoid duplication of effort, we ask the public to direct any comments concerning 14 CFR parts 125 and 135 to the address included in the February 3, 2003, notice announcing that special review (68 FR 5488). Also, readers should note that this is the first periodic regulatory review that specifically includes 14 CFR Chapter III, the regulations governing commercial space transportation. In earlier review cycles, the FAA requested comments only on 14 CFR Chapter I.

Our goal is to identify regulations that impose undue regulatory burden; are no longer necessary; or overlay, duplicate, or conflict with other Federal regulations. In order to focus on areas of greatest interest, and to effectively manage agency resources, the FAA asks that commenters responding to this notice limit their input to three issues they consider most urgent, and to list them in priority order.

The FAA will review the issues addressed by the commenters against its regulatory agenda and rulemaking program efforts and adjust its regulatory priorities consistent with its statutory responsibilities. At the end of this process, the FAA will publish a summary and general disposition of comments and indicate, where appropriate, how we will adjust our regulatory priorities.

Also, we request the public provide any specific suggestions where rules could be developed as performance-based rather than prescriptive, and any specific plain-language that might be used, and provide suggested language on how those rules should be written.

Issued in Washington DC, on February 20, 2004.
Nick Sabatini,
Associate Administrator for Regulation and Certification.

[FR Doc. 04-4171 Filed 2-24-04; 8:45 am]

BILLING CODE 4910-13-P